DEPARTMENT OF DEFENSE

Department of the Navy

Notice of Public Meetings for the Draft Environmental Impact Statement for Land Acquisition and Airspace Establishment at Marine Corps Air Ground Combat Center Twentynine Palms, CA

AGENCY: Department of the Navy, DoD.

ACTION: Notice.

SUMMARY: Pursuant to section (102)(2)(c) of the National Environmental Policy Act (NEPA) of 1969, and regulations implemented by the Council on Environmental Quality (40 Code of Federal Regulations [CFR] parts 1500-1508), Department of Navy (DoN) NEPA regulations (32 CFR part 775) and U.S. Marine Corps (USMC) NEPA directives (Marine Corps Order P5090.2A, changes 1 and 2), the DoN has prepared and filed with the U.S. Environmental Protection Agency (EPA) a Draft Environmental Impact Statement (EIS) that evaluates potential environmental impacts associated with the proposed establishment of a large-scale training range at the Marine Corps Air Ground Combat Center (“Combat Center”) at Twentynine Palms, California. This proposed action would accommodate sustained, combined-arms, live-fire and maneuver training exercises for all elements of a Marine Expeditionary Brigade (MEB).

With the filing of the Draft EIS, the DoN is initiating a 90-day public comment period and has scheduled three public open house meetings to receive oral and written comments on the Draft EIS. Federal, state and local agencies and interested parties are encouraged to provide comments in person at any of the public open house meetings, or in writing anytime during the public comment period. This notice announces the dates and locations of the public meetings and provides supplementary information about the environmental planning effort.

DATES: The Draft EIS public review period will begin February 25, 2011, and end on May 26, 2011. The USMC is holding three informational open house style public meetings to inform the public about the proposed action and the alternatives under consideration, and to provide an opportunity for the public to comment on the proposed action, alternatives, and the adequacy and accuracy of the Draft EIS. USMC representatives will be on hand to discuss and answer questions on the proposed action, the NEPA process and the findings presented in the Draft EIS. Public open house meetings will be held:

(1) Tuesday, April 12, 2011, 5 p.m. to 9 p.m., at Copper Mountain College, Bell Center Gym, 6162 Rotary Way, Joshua Tree, CA 92252.

(2) Wednesday, April 13, 2011, 5 p.m. to 9 p.m., at Ontario High School Gym, 901 W. Francis St., Ontario, CA 91762.

(3) Thursday, April 14, 2011, 5 p.m. to 9 p.m., at Hilton Garden Inn, Mirage/Sahara Conference Center, 12603 Mariposa Road, Victorville, CA 92395.

Attendees will be able to submit written comments at the public meetings. A stenographer will be present to transcribe oral comments. Equal weight will be given to oral and written statements. All statements, oral transcription and written, submitted during the public review period will become part of the public record on the Draft EIS and will be responded to in the Final EIS. Comments may also be submitted by U.S. mail or electronically via the project Web site provided below.

ADDRESSES: A copy of the Draft EIS is available at the project Web site, http://www.marines.mil/unit/29palms/las, and at the local libraries identified at the end of this notice. Comments on the Draft EIS can be submitted via the project Web site or submitted in writing to: Naval Facilities Engineering Command Southwest, ATTN: 29Palms EIS Project Manager, 1220 Pacific Highway, San Diego, CA 92132-5190. All comments must be postmarked or received by May 26, 2011, to ensure they become part of the official record. All timely comments will be responded to in the Final EIS.

FOR FURTHER INFORMATION CONTACT: Chris Proudfoot, Program Manager Land Acquisition at 760-830-3764 or SMBPLMSWEBPAO@usmc.mil.

SUPPLEMENTARY INFORMATION: A Notice of Intent (NOI) to prepare the EIS was published in the Federal Register on October 30, 2008 (Vol. 73, No. 211, p. 64604), and a correction notice was published in the Federal Register on November 21, 2008 (Vol. 73, No. 226, p. 70626), to correct an error in the original October 30, 2008, NOI regarding the scheduled dates for the public scoping meetings.

Proposed Action

The proposed action includes three fundamental and interrelated components: Acquisition of Land contiguous to the existing Combat Center to provide a sufficient area for realistic MEB-sized sustained, combined-arms, live-fire, and maneuver training that meets at least a minimum threshold level of MEB training requirements within appropriate margins of safety.

Modification and Establishment of Special Use Airspace to enable full integration of MEB-sized Aviation Combat Element operations and both air- and ground-delivered live-fire ordnance use within appropriate margins of safety.

Expanded Training implemented as a full-scale MEB Exercise conducted twice per year for 24 continuous days each. Current levels of proficiency training (Building Block training) may be conducted (up to a single battalion in size) when MEB Exercises are not being conducted.

Purpose and Need

The proposed action is needed for the USMC to conduct sustained, combined-arms live-fire and maneuver field training exercises for a MEB-sized Marine Air Ground Task Force (MAGTF) consisting of three battalion task forces and associated command, aviation and combat logistics support elements. These training requirements, drawn from a November 2006 Marine Requirements Oversight Council decision to validate the need for a MEB-sized MAGTF training area, stem from the USMC Strategy 21 commitment to increasingly employ MEBs as the primary contingency response force. Marine Expeditionary Brigades must be capable of performing a variety of missions throughout the spectrum of conflict because they will encounter complex situations containing asymmetric threats, nonlinear battlefields, and unclear delineation between combatants and noncombatants. To overcome these challenges and operate effectively, MEBs must be able to conduct maneuver-intensive operations over extended distances, supported by closely coordinated precision fires, aviation-delivered ordnance, and sustained, focused logistical support. The proposed action is needed because existing training bases, facilities, ranges, and live-fire ground and air maneuver areas are inadequate to support MEB-sized training exercises. An effective MEB-sized exercise requires live-fire and maneuver training space (and associated airspace) for three battalions, while the USMC's largest training site (the Combat Center) can only accommodate live-fire and maneuver training for up to two battalions. Current training capabilities and methods offer only limited practical experience and cannot provide realistic training opportunities that enhance the capability to rapidly and effectively integrate all elements of the large-scale MAGTF into a single cohesive force. In addition, because most of the training areas aboard the Combat Center are fully committed during traditional combined arms training (which occurs over 250 days per year), Building Block training for home station and external units are sometimes diminished in scope, forcing units to add remediation events to combat pre-deployment training to satisfy prerequisites for combat certification. The proposed action is needed to resolve training range deficiencies so that MEB training can be accommodated in accordance with the 2006 Marine Requirements Oversight Council decision and the pre-deployment readiness directives of USMC Order 3502.6, and so that Marines are able to train as they will fight.

Alternatives Considered in the Draft EIS

The Draft EIS examines six action alternatives and the No-Action Alternative. The six action alternatives all have the same three fundamental components: acquisition of additional training land, establishment and modification of airspace, and a new field exercise program of sustained, combined-arms, live-fire and maneuver training that meets at least the minimum threshold requirements for training a MEB. Under all alternatives, acquired airspace would be returned to Federal Aviation Administration (FAA) control to be made available for commercial and general aviation when not being used by the USMC. In addition, three of the action alternatives (Alternatives 4, 5 and 6) would allow for restricted public access for recreational use on a portion of the acquired land in the west study area (Johnson Valley) when military training activities are not being conducted.

Each of the six action alternatives would involve limited construction activities, including: installation of up to three communications towers (similar to existing towers located within the Combat Center); periodic placement and redistribution of temporary target arrays; temporary ground excavation associated with normal vehicle and infantry maneuver operations (e.g., for trenches, fighting positions, etc.); some re-grading or other improvement/maintenance of existing unpaved access roads; and the development of up to 35 miles of new unpaved access roads. Under Alternative 3 only, four concrete tank crossings would be constructed across North Amboy Road. No other permanent fixtures or infrastructure would be constructed, demolished or modified under any of the six action alternatives.

Additional personnel would be required to manage the land/airspace areas and expanded training capability under each action alternative. The increase in military and civilian personnel would vary by alternative, and are estimated to be between 59 and 77 additional personnel. In addition, during each proposed MEB Exercise, an estimated 10,000 to 15,000 Marines would reside at the existing Exercise Support Base within the Combat Center.

Alternative 1 would add approximately 201,657 acres to the existing Combat Center (180,353 acres to the west of the base and 21,304 acres to the south of the base). This alternative would establish new Restricted Area airspace over the acquired lands to the west to accommodate live-fire from aviation and surface units, establish new Military Operations Area airspace, and modify lateral and vertical dimensions of existing Military Operations Areas in other parts of the project area.

Alternative 2 would add approximately 134,863 acres to the existing Combat Center (113,558 acres to the west of the base and the same 21,304 acres to the south as in Alternative 1). Proposed training activities and airspace requirements would be similar to Alternative 1 but would align with the smaller acquisition area of Alternative 2.

Alternative 3 would add approximately 198,580 acres to the existing Combat Center (177,276 acres to the east of the base and the same 21,304 acres to the south as in Alternative 1). This alternative would establish new Restricted Area airspace over the acquired lands to the east to accommodate live-fire from aviation and surface units, establish new Military Operations Area airspace, and modify lateral and vertical dimensions of existing Military Operations Areas in other parts of the project area.

Alternative 4 would add approximately 201,657 acres to the existing Combat Center (180,353 acres to the west of the base and the same 21,304 acres to the south as in Alternative 1) and accompanying Special Use Airspace. Proposed training activities and airspace requirements would be similar to Alternative 1. The western expansion area would be a Restricted Public Access Area, available to the public for 10 months of the year when not used by the USMC.

Alternative 5 would add the same 180,353 acres of land to the west of the base as in Alternatives 1 and 4 but no additional land to the south. Proposed training activities and airspace requirements would be similar to Alternative 1 and 4. The western expansion area would be a Restricted Public Access Area, available to the public for 10 months of the year when not used by the USMC.

Alternative 6 (Preferred Alternative) would add approximately 167,971 acres to the existing Combat Center (146,667 acres to the west of the base and the same 21,304 acres to the south as in Alternative 1) and accompanying Special Use Airspace. Of the western land acquisition, approximately 108,530 acres would be exclusive USMC Use, while the remaining 38,137 acres would be a Restricted Public Access Area, available to the public 10 months per year when it is not being used by the USMC. Proposed training activities and airspace requirements would otherwise be similar to Alternative 1.

The No Action Alternative would seek no additional lands and no additions or changes to Special Use Airspace associated with the Combat Center's current range complex.

Environmental Effects Identified in Draft EIS

Potential impacts were evaluated in the Draft EIS under all alternatives for the following resources: land use, recreation, socioeconomics and environmental justice, public health and safety, visual resources, transportation and circulation, airspace management, air quality, noise, biological resources, cultural resources, geological resources and water resources.

The Draft EIS includes mitigation measures, special conservation measures, and features of project design to avoid or minimize potential impacts. The proposed action would fully comply with regulatory requirements for the protection of environmental resources. A Biological Assessment has been prepared for submittal to the U.S. Fish & Wildlife Service in compliance with Section 7 of the Endangered Species Act. In addition, the USMC is coordinating with the California State Historic Preservation Office on Section 106 of the National Historic Preservation Act, and with the Mojave Desert Air Quality Management District on the Clean Air Act.

The proposed action would result in unavoidable impacts related to land use (due to inconsistencies with federal and local land use plans and policies, incompatibility with mining claims and leases, and the acquisition of privately-owned land), recreation (due to the loss of recreational use of the Johnson Valley Off-Highway Vehicle [OHV] Area), socioeconomics (due to decreased spending and income from OHV and other recreational activities, and impacts to existing commercial and private aircraft flight routes), public health and safety (due to potential public contact with munitions constituents or other hazards under Alternatives 4, 5 and 6), air quality (due to air emissions from construction and training activities), biological resources (due to the likelihood of training exercise-related incidental take of desert tortoises), cultural resources (due to the potential loss of archeological sites, even if mitigated through data recovery), geological resources (due to compaction of soils, disruption of surface crust, shearing of soil profiles, and soil particle dispersion as dust due to military activities), and water resources (due to increased demand for potable groundwater supplies).

Schedule: The Notice of Availability (NOA) publication in the Federal Register and local print media starts the 90-day public comment period for the Draft EIS. The DoN will consider and respond to all written, oral and electronic comments, submitted as described above, in the Final EIS. The DoN intends to issue the Final EIS in November 2011, at which time an NOA will be published in the Federal Register and local print media. A Record of Decision is expected to be published in April 2012.

Copies of the Draft EIS can be found on the project Web site, http://www.marines.mil/unit/29palms/las or at the following locations:

(1) Newton T. Bass Apple Valley Branch Library, 14901 Dale Evans Parkway, Apple Valley, CA 92307.

(2) Barstow Branch Library, 304 E. Buena Vista St., Barstow, CA 92311.

(3) Joshua Tree Library, 6465 Park Blvd., Joshua Tree, CA 92252.

(4) Lucerne Valley Janice Horst Branch Library, 33103 Old Woman Springs Road, Lucerne Valley, CA 92356.

(5) Needles Branch Library, 1111 Bailey Ave., Needles, CA 92363.

(6) Ovitt Family Community Library, 215 E. C St., Ontario, CA 91764.

(7) Sacramento Public Library Central Branch, 828 I Street, Sacramento, CA 95814.

(8) San Bernardino County Library, 104 W. Fourth St., San Bernardino, CA 92415.

(9) Twentynine Palms Library, 6078 Adobe Road, Twentynine Palms, CA 92277.

(10) Victorville City Library, 15011 Circle Drive, Victorville, CA 92395.

(11) Yucca Valley Branch Library, 57098 29 Palms Highway, Yucca Valley, CA 92284.

Dated: February 18, 2011.
D. J. Werner,
Lieutenant Commander, Office of the Judge Advocate General, U.S. Navy, Federal Register Liaison Officer.

[FR Doc. 2011-4461 Filed 2-28-11; 8:45 am]

BILLING CODE 3810-FF-P